INTERNATIONAL TRADE COMMISSION

[Investigation Nos. 701-TA-601 and 731-TA-1411 (Final)]

Laminated Woven Sacks From Vietnam

Determinations

On the basis of the record ¹ developed in the subject investigations, the United States International Trade Commission (“Commission”) determines, pursuant to the Tariff Act of 1930 (“the Act”), that an industry in the United States is materially injured by reason of imports of laminated woven sacks from Vietnam, provided for in subheading 6305.33.00 of the Harmonized Tariff Schedule of the United States, that have been found by the U.S. Department of Commerce (“Commerce”) to be sold in the United States at less than fair value (“LTFV”), and to be subsidized by the government of Vietnam.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective March 7, 2018, following receipt of a petition filed with the Commission and Commerce by Polytex Fibers Corporation (“Polytex”), Houston, Texas; and ProAmpac, LLC (“ProAmpac”), Cincinnati, Ohio; combined as Laminated Woven Sacks Fair Trade Coalition. The final phase of the investigations was scheduled by the Commission following notification of preliminary determinations by Commerce that imports of laminated woven sacks from Vietnam were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on October 29, 2018 (83 FR 54373).² The hearing was held in Washington, DC, on April 4, 2019, and all persons who requested the opportunity were permitted to appear in person or by counsel.

² Due to the lapse in appropriations and ensuing cessation of government operations, all import injury investigations conducted under authority of Title VII of the Tariff Act of 1930 accordingly were tolled pursuant to 19 U.S.C. 1671d(b)(2), 1673d(b)(2).

The Commission made these determinations pursuant to sections 705(b) and 735(b) of the Act (19 U.S.C. 1671d(b) and 19 U.S.C. 1673d(b)). It completed and filed its determinations in these investigations on May 22, 2019. The views of the Commission are contained in USITC Publication 4893 (May 2019), entitled Laminated Woven Sacks from Vietnam: Investigation Nos. 701-TA-601 and 731-TA-1411 (Final).

By order of the Commission.
Issued: May 23, 2019.
Lisa Barton,
Secretary to the Commission.

[FR Doc. 2019-11229 Filed 5-29-19; 8:45 am]

BILLING CODE 7020-02-P